DEPARTMENT OF TRANSPORTATION

Federal Aviation Administration

Seventeenth Meeting: RTCA Special Committee 213, Enhanced Flight Vision/Synthetic Vision Systems (EFVS/SVS)

AGENCY: Federal Aviation Administration (FAA), U.S. Department of Transportation (DOT).

ACTION: Notice of RTCA Special Committee 213, Enhanced Flight Vision/Synthetic Vision Systems (EFVS/SVS).

SUMMARY: The FAA is issuing this notice to advise the public of the seventeenth meeting of RTCA Special Committee 213, Enhanced Flight Vision/Synthetic Vision Systems (EFVS/SVS).

DATES: The meeting will be held February 7-9, 2012, from 8 a.m.-5 p.m.

ADDRESSES: The meeting will be held at Universal Avionics Systems Corporation, 3260 E. Universal Way, Tucson, AZ 85756.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a Special Committee 213, Enhanced Flight Vision/Synthetic Vision Systems (EFVS/SVS). The agenda will include the following:

February 7, 2012

• Introductions and Administrative Items

• Review and approve minutes from last full plenary meeting

• Introductions and administrative items

• Review and approve minutes from last full plenary meeting

• ED-179B status and update

February 8, 2012

• Plenary discussion (0800-1700, including breaks and lunch)

• Work Group 2 (VS) Discussion

• Work Group 1 (SVS/CVS) break discussion out if needed

February 9, 2012

• Plenary discussion (0800-1500, including breaks and lunch)

• E Work Group 1 and 2 Update

• Administrative items (meeting schedule)

• Adjourn at 1500

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 5, 2012.
John Raper,
Manager, Business Operations Branch, Federal Aviation Administration.

[FR Doc. 2012-541 Filed 1-13-12; 8:45 am]

BILLING CODE 4910-13-P